FEDERAL MINE SAFETY AND HEALTH REVIEW COMMISSION

Sunshine Act Meeting

February 8, 2001.

TIME AND DATE: 2 p.m., Thursday, February 15, 2001.

PLACE: Room 6005, 6th Floor, 1730 K Street, N.W., Washington, D.C.

STATUS: Open.

MATTERS TO BE CONSIDERED: The Commission will consider and act upon the following:

1. Central Sand & Gravel Co., Docket No. CENT 98-230-RM (Issues include whether the judge erred in concluding that the operator violated 30 CFR 56.12045 by failing to maintain clearances between a stockpile and overhead powerlines).

Any person attending an open meeting who requires special accessibility features and/or auxiliary aids, such as sign language interpreters, must inform the Commission in advance of those needs. Subject 20 29 CFR 2706.150(a)(3) and 2706.160(d).

CONTACT PERSON FOR MORE INFO: Jean Ellen, (202) 653-5629/(202) 708-9300 for TDD Relay/1-800-877-8339 for toll free.

Jean H. Ellen,
Chief Docket Clerk,

[FR Doc. 01-3842 Filed 2-12-01; 2:10 pm]

BILLING CODE 6735-01-M